ENVIRONMENTAL PROTECTION AGENCY

[EPA-HQ-OECA-2013-0331; FRL-9988-76-OEI]

Information Collection Request Submitted to OMB for Review and Approval; Comment Request; NSPS for New Residential Wood Heaters (Renewal)

AGENCY: Environmental Protection Agency (EPA).

ACTION: Notice.

SUMMARY: The Environmental Protection Agency (EPA) has submitted an information collection request (ICR), NSPS for New Residential Wood Heaters (EPA ICR No. 1176.13, OMB Control No. 2060-0161), to the Office of Management and Budget (OMB) for review and approval in accordance with the Paperwork Reduction Act. This is a proposed extension of the ICR, which is currently approved through March 31, 2019. Public comments were previously requested, via the Federal Register, on June 29, 2017 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before March 13, 2019.

ADDRESSES: Submit your comments, referencing Docket ID Number EPA-HQ-OECA-2013-0331, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The New Source Performance Standards (NSPS) for New Residential Wood Heaters (40 CFR 60, Subpart AAA) apply to existing facilities and new facilities that contain wood heaters. A wood heater is defined as an enclosed, wood burning appliance capable of and intended for residential or space heating and domestic water heating. Unless otherwise specified, these devices include, but are not limited to, adjustable burn rate wood heaters, single burn rate wood heaters and pellet stoves. New facilities include those that commenced construction, modification or reconstruction after the date of proposal.

One feature of the NSPS requires emphasis at the outset, which is that the requirements of subpart AAA establish a certification program instead of the usual NSPS requirements, where each affected facility is required to demonstrate compliance through performance testing. Under the subpart AAA-required certification program, a single wood heater is tested to demonstrate compliance with particulate matter (PM) emission limits for an entire model line, which could consist of thousands of stoves. The use of a certification approach significantly reduces the compliance burden, including information collection, for the manufacturers of wood heating appliances. In order to minimize risks to the environment from intentional or accidental misuse of the certification approach, subpart AAA includes several safeguards, some of which entail reporting and recordkeeping.

Form Numbers: None.

Respondents/affected entities: Owners and operators of facilities that contain new residential wood heaters.

Respondent's obligation to respond: Mandatory (40 CFR part 60, subpart AAA).

Estimated number of respondents: 45 (total).

Frequency of response: Initially, occasionally, and annually.

Total estimated burden: 4,320 hours (per year). Burden is defined at 5 CFR 1320.3(b).

Total estimated cost: $1,210,000 (per year), which includes $740,000 in annualized capital/startup and/or operation & maintenance costs.

Changes in the estimates: There is an increase in the total estimated respondent annual burden as currently identified in the OMB Inventory of Approved Burdens due to an increase in the number of test laboratories and third-party certifiers subject to these standards. The number of sources has been adjusted in this ICR to reflect more current information obtained regarding the number of manufacturers certifying model lines in advance of Subpart AAA's Step 2 p.m. standards, which go into effect in 2020, as well as data that indicates a decline in the number of manufacturers based on ongoing industry consolidation and decreasing market size, and to reflect additional entities obtaining EPA approval as test laboratories or third-party certifiers.

There is a decrease in capital/startup costs as compared to the previous ICR. This change is due to a decrease in the number of manufacturers, and because initial compliance requirements for test laboratories and third-party certifiers within the standard occurred during the period of the previous ICR. The overall result is a decrease in costs to the industry.

The supporting statement for this information collection was revised to clarify and consolidate the information items requested (including notification, reporting, and recordkeeping requirements) and respondent activities in section 4(b), as well as for agency activities in section 5(a). These requirements were previously listed in Appendix A of the prior ICR and have been relocated in sections 4(b) and 5(a) to help more easily identify the relevant data items and activities that contribute to burden. There are no changes to these requirements from the prior ICR.

Courtney Kerwin,
Director, Regulatory Support Division.

[FR Doc. 2019-01878 Filed 2-8-19; 8:45 am]

BILLING CODE 6560-50-P